DEPARTMENT OF STATE

[Public Notice 3658]

Notice of Proposal To Extend Memorandum of Understanding With Peru

ACTION: Notice.

Pursuant to the authority vested in me under Department of State Delegation of Authority No. 236-2, as amended, and pursuant to 19 U.S.C. 2602(f)(1), I hereby propose extension of the Memorandum of Understanding between the Government of the United States of America and the Government of Peru Concerning the Imposition of Import Restrictions on Archaeological Material from the Prehispanic Cultures and Certain Ethnological Material from the Colonial Period of Peru, signed June 9, 1997. Pursuant to 19 U.S.C. 2602(f)(2), the views and recommendations of the Cultural Property Advisory Committee regarding this proposal will be requested.

A copy of this Memorandum of Understanding, the designated list of restricted categories of material, and related information can be found at the following web site: http://exchanges.state.gov/education/culprop.

Dated: May 2, 2001.
Helena Kane Finn,
Acting Assistant Secretary for Educational and Cultural Affairs, U.S. Department of State.

[FR Doc. 01-11686 Filed 5-7-01; 8:45 am]

BILLING CODE 4710-11-P